ENVIRONMENTAL PROTECTION AGENCY

[FRL-6966-6]

Gulf of Mexico Program Policy Review Board Meeting; Change of Location

AGENCY: Environmental Protection Agency (EPA).

ACTION: Change of location of meeting.

SUMMARY: On April 3, 2001 (66 FR 17706), EPA gave notice of a meeting of the Gulf of Mexico Program (GMP) Policy Review Board (PRB). The location for the meeting has changed.

DATES: The PRB meeting will be held on Wednesday, May 2, 2001, from 10:30 a.m. to 3:00 p.m.

ADDRESSES: The meeting will be held in the Victoria Room at the Marriott Houston Airport Hotel, 18700 Kennedy Boulevard, Houston, Texas 77032 (at Bush Intercontinental Airport), (281) 443-2310.

FOR FURTHER INFORMATION CONTACT: Gloria D. Car, Designated Federal Officer, Gulf of Mexico Program Office, Building 1103, Room 202, Stennis Space Center, MS 39529-6000 at (228) 688-2421.

SUPPLEMENTARY INFORMATION: Proposed agenda items will include: Review PRB Recommendations.

The meeting is open to the public.

Dated: April 5, 2001.
Gloria D. Car,
Designated Federal Officer.

[FR Doc. 01-9055 Filed 4-11-01; 8:45 am]

BILLING CODE 6560-50-P